DEPARTMENT OF ENERGY

Federal Energy Regulatory Commission

[Docket No. RP96-383-055]

Dominion Transmission, Inc.; Notice of Negotiated Rate Filing

May 6, 2004.

Take notice that on April 29, 2004, Dominion Transmission, Inc. (DTI) tendered for filing as part of its FERC Gas Tariff, Third Revised Volume No. 1, the following revised tariff sheet to correctly reflect the terms of an existing negotiated transaction with Rochester Gas and Electric Corporation (RG&E):

Fifth Revised Sheet No. 1402

DTI states that the tariff sheet relates to a specific negotiated rate transaction between DTI and RG&E. DTI requests an effective date of April 1, 2004 for its proposed tariff sheet.

DTI states that copies of its letter of transmittal and enclosures have been served upon DTI's customers and interested state commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1094 Filed 5-12-04; 8:45 am]

BILLING CODE 6717-01-P